DEPARTMENT OF HOMELAND SECURITY

Coast Guard

33 CFR Part 165

[Docket No. USCG-2008-0384]

Special Local Regulations and Safety Zones; Recurring Events in Captain of the Port Long Island Sound

AGENCY: Coast Guard, DHS.

ACTION: Notice of enforcement of regulation.

SUMMARY: The Coast Guard will enforce various fireworks displays' and swimming events' safety zones in the Sector Long Island Sound area of responsibility on various dates and times listed in the tables below. This action is necessary to provide for the safety of life on navigable waterways during these regattas, fireworks displays and swim events. During the enforcement period, no person or vessel may enter the safety zone without permission of the Captain of the Port (COTP) Sector Long Island Sound or designated representative.

DATES: The regulations in 33 CFR 165.151 will be enforced on the dates and times listed in tables 1 and 2 in SUPPLEMENTARY INFORMATION.

FOR FURTHER INFORMATION CONTACT: If you have questions on this notice, call or email Petty Officer Joseph Graun Prevention Department U.S. Coast Guard Sector Long Island Sound (203) 468-4544, joseph.L.Graun@uscg.mil.

SUPPLEMENTARY INFORMATION:

Table 1 to § 165.151
6 | June
6.3 Vietnam Veterans/Town of East Haven Fireworks | • Date: June 30, 2012.
| • Rain date: July 1, 2012.
| • Time: 8:30 p.m. to 10:30 p.m.
| • Location: Waters off Cosey beach, East Haven, CT in approximate position 41°14′19″ N, 072°52′9.8″ W (NAD 83).
7 | July
7.3 City of Westbrook, CT July Celebration Fireworks | • Date: July 2, 2012.
| • Rain date: July 3, 2012.
| • Time: 8:30 p.m. to 10:30 p.m.
| • Location: Waters of Westbrook Harbor, Westbrook, CT in approximate position 41°16′10.50″ N, 072°26′14″ W (NAD 83).
7.9 City of Middletown Fireworks | • Date: July 3, 2012.
| • Rain date: July 5, 2012.
| • Time: 8:30 p.m. to 10:30 p.m.
| • Location: Waters of the Connecticut River, Middletown Harbor, Middletown, CT in approximate position 41°33′44.47″ N, 072°38′37.88″ W (NAD 83).
7.11 City of Norwich July Fireworks | • Date: July 30, 2012.
| • Rain date: July 1, 2012.
| • Time: 8:30 p.m. to 10:30 p.m.
| • Location: Waters of the Thames River, Norwich, CT in approximate position 41°31′16.835″ N, 072°04′43.327″ W (NAD 83).
7.13 City of West Haven Fireworks | • Date: July 3, 2012.
| • Rain date: July 5, 2012.
| • Time: 8:30 p.m. to 10:30 p.m.
| • Location: Waters of New Haven Harbor, off Bradley Point, West Haven, CT in approximate position 41°15′07″ N, 072°57′26″ W (NAD 83).
7.17 Fund in the Sun Fireworks | • Date: August 18, 2012.
| • Rain date: August 19, 2012.
| • Time: 8:30 p.m. to 10:30 p.m.
| • Location: Waters of the Great South Bay off The Pines, East Fire Island, NY in approximate position 40°40′07.43″ N, 073°04′13.88″ W (NAD 83).
7.28 City of Long Beach Fireworks | • Date: July 3, 2012.
| • Rain date: July 13, 2012.
| • Time: 8:30 p.m. to 10:30 p.m.
| • Location: Waters off Riverside Blvd, City of Long Beach, NY in approximate position 40°34′38.77″ N, 073°39′41.32″ W (NAD 83).
7.33 Clam Shell Foundation Fireworks | • Date: July 21, 2012.
| • Rain date: July 22, 2012.
| • Time: 8:30 p.m. to 10:30 p.m.
| • Location: Waters of Three Mile Harbor, East Hampton, NY in approximate position 41°1′15.49″ N, 072°11′27.50″ W (NAD 83).
7.35 Groton Long Point Yacht Club Fireworks | • Date: July 14, 2012.
| • Rain date: July 15, 2012.
| • Time: 8:30 p.m. to 10:30 p.m.
| • Location: Waters of Long Island Sound, Groton, CT in approximate position 41°18′05″ N, 072°02′08″ W (NAD 83).
8 | August
8.2 Port Washington Sons of Italy Fireworks | • Date: September 9, 2012.
| • Time: 8:30 p.m. to 10:30 p.m.
| • Location: Waters of Hempstead Harbor off Bar Beach, North Hempstead, NY in approximate position 40°49′48.04″ N, 073°39′24.32″ W (NAD 83).
8.6 Town of Babylon Fireworks | • Date: August 25, 2012.
| • Rain date: August 26, 2012.
| • Time: 8:30 p.m. to 10:30 p.m.
| • Location: Waters off of Cedar Beach Town Park, Babylon, NY in approximate position 40°37′53″ N, 073°20′12″ W (NAD 83).

Table 2 to § 165.151
1.2 Huntington Bay Open Water Championships Swim | • Date: July 15, 2012.
| • Time: 7:15 a.m. to noon.
| • Location: Waters of Huntington Bay, NY. In approximate positions start/finish at approximate position 40°54′25.8″ N, 073°24′28.8″ W, East turn at approximate position 40°54′45″ N, 073°23′36.6″ W, and a West turn at approximate position 40°54′31.2″ N, 073°25′21″ W °09′25.07″ N, 073°12′47.82″ W (NAD 83).

The Coast Guard will enforce the safety zones listed in 33 CFR 165.151 on the specified dates and times as indicated in tables above. If the event is delayed by inclement weather, the regulation will be enforced on the rain date indicated in tables above. These regulations were published in the Federal Register on February 10, 2012 (77 FR 6954).

Under the provisions of 33 CFR 165.151, The fireworks displays and swimming events listed above in DATES are established as safety zones. During these enforcement periods, persons and vessels are prohibited from entering into, transiting through, mooring, or anchoring within the safety zones unless they receive permission from the COTP or designated representative.

This rule is issued under authority of 33 CFR 165 and 5 U.S.C. 552(a). In addition to this rule in the Federal Register, the Coast Guard will provide the maritime community with advance notification of this enforcement period via the Local Notice to Mariners or marine information broadcasts. If the COTP determines that a regulated area need not be enforced for the full duration stated in this notice, a Broadcast Notice to Mariners may be used to grant general permission to enter the regulated area.

Dated: June 14, 2012.
J.M. Vojvodich,
Captain, U.S. Coast Guard, Captain of the Port Sector Long Island Sound.

[FR Doc. 2012-15823 Filed 6-27-12; 8:45 am]

BILLING CODE 9110-04-P